DEPARTMENT OF THE INTERIOR

Geological Survey

[GX14BA030AD0100]

Agency Information Collection Activities: Request for Comments

AGENCY: U.S. Geological Survey (USGS), Interior.

ACTION: Notice of a revision of a currently approved information collection (1028-0078).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on October 31, 2014.

DATES: To ensure that your comments are considered, we must receive them on or before October 20, 2014.

ADDRESSES: You may submit comments on this information collection to the Information Collection Clearance Officer, U.S. Geological Survey, 12201 Sunrise Valley Drive MS 807, Reston, VA 20192 (mail); (703) 648-7197 (fax); or gs-info_collections@usgs.gov (email). Please reference Information Collection 1028-0078, North American Amphibian Monitoring Program (NAAMP) in all correspondence.

FOR FURTHER INFORMATION CONTACT: Michael J. Adams at U.S. Geological Survey, Forest and Rangeland Ecosystem Science Center, 3200 SW Jefferson Way, Corvallis, OR 97330 (mail); (541) 750-1069 (fax); or mjadams@usgs.gov (email).

SUPPLEMENTARY INFORMATION:

I. Abstract

This information collection pertains to volunteers who contribute their time to conduct frog call surveys at assigned survey routes for the North American Amphibian Monitoring Program. Volunteers use an on-line data entry system to submit data. This information is used by Agencies and organizations at the state, federal and local levels. The information constitutes monitoring of amphibian populations, providing systematically collected information to enable managers in natural resource decision making. Responses are voluntary.

II. Data

OMB Control Number: 1028-0078.

Form Number: Various if many different forms or screen shots, otherwise provide the form number.

Title: North American Amphibian Monitoring Program (NAAMP)

Type of Request: Extension of a currently approved collection.

Affected Public: General Public; individual households.

Respondent's Obligation: None. Participation is voluntary.

Frequency of Collection: 3 times per year.

Estimated Total Number of Annual Responses: 1600.

Estimated Time per Response: 3 hours per response.

Estimated Annual Burden Hours: 4800.

Estimated Reporting and Recordkeeping “Non-Hour Cost” Burden: The “non-hour cost” burden associated with this IC is primarily vehicle mileage; calculated at the federal standard rate of 0.56 cents per mile times the approximate distance of a survey route (15 miles). The total estimate is $8.40 per survey. Any new participants will also need to purchase a thermometer to record air temperature at $15 each.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Dated: August 13, 2014.
William Lellis,
Deputy Associate Director for Ecosystems.

[FR Doc. 2014-19727 Filed 8-19-14; 8:45 am]

BILLING CODE P